DEPARTMENT OF COMMERCE

National Oceanic and Atmospheric Administration

50 CFR Part 216

[Docket No. 990927266-0240-02; I.D. 072699A]

RIN 0648-AM62

Taking and Importing Marine Mammals; Taking Marine Mammals Incidental to Navy Operations of Surveillance Towed Array Sensor System Low Frequency Active Sonar

AGENCY: National Marine Fisheries Service (NMFS), National Oceanic and Atmospheric Administration (NOAA), Commerce.

ACTION: Notice of extension of comment deadline.

SUMMARY: Under the Marine Mammal Protection Act, on March 19, 2001, NMFS published a proposed rule (66 FR 15375) to authorize the taking of marine mammals incidental to the world-wide deployment of the U.S. Navy's SURTASS LFA sonar. Please refer to this document for additional information on this proposed action. By this document, NMFS announces an extension of the comment deadline.

DATES: Comments must be postmarked no later than May 31, 2001. Comments will not be accepted if submitted via e-mail or the Internet.

ADDRESSES: Comments should be addressed to Donna Wieting, Chief, Marine Mammal Conservation Division, Office of Protected Resources, National Marine Fisheries Service, 1315 East-West Highway, Silver Spring, MD 20910-3226.

FOR FURTHER INFORMATION CONTACT: Kenneth R. Hollingshead, NMFS (301) 713-2055, ext 128.

A copy of the Navy's application is available and may be obtained by writing to this address or by telephoning the contact listed here (see FOR FURTHER INFORMATION CONTACT).

SUPPLEMENTARY INFORMATION: Section 101(a)(5)(A) of the MMPA (16 U.S.C. 1361 et seq.) directs the Secretary of Commerce (Secretary) to allow, upon request, the incidental, but not intentional taking of small numbers of marine mammals by U.S. citizens who engage in a specified activity (other than commercial fishing) within a specified geographical region if certain findings are made and regulations are issued.

Under section 101(a)(5)(A) of the Marine Mammal Protection Act, on March 19, 2001, NMFS published a proposed rule (66 FR 15375) to authorize the taking of marine mammals incidental to the world-wide deployment of the U.S. Navy's SURTASS LFA sonar. Please refer to this document for additional information on this proposed action.

On April 16, 2001 (66 FR 19413), NMFS announced an extension of the comment period until May 18, 2001, and the dates and locations for public hearings on this matter. By this document, the comment period for this proposed action is hereby extended until May 31, 2001.

Dated: May 9, 2001.
Wanda Cain,
Acting Deputy Director, Office of Protected Resources, National Marine Fisheries Service.

[FR Doc. 01-12082 Filed 5-14-01; 8:45 am]

BILLING CODE 3510-22-S